DEPARTMENT OF COMMERCE

Bureau of Industry and Security

Submission for OMB Review; Comment Request

The Department of Commerce will submit to the Office of Management and Budget (OMB) for clearance the following proposal for collection of information under the provisions of the Paperwork Reduction Act (44 U.S.C. Chapter 35).

Agency: Bureau of Industry and Security.

Title: Simple Network Application Process and Multipurpose Application Form.

Form Number(s): 748P, 748P-A, 748P-B.

OMB Control Number: 0694-0088.

Type of Request: Regular submission.

Estimated Total Burden Hours: 31,878 hours.

Estimated Number of Respondents: 64,616 respondents.

Estimated Time per Response: 49 minutes per response.

Needs and Uses: BIS administers a system of export and re-export controls in accordance with the EAR. In doing so, BIS requires that parties wishing to engage in certain transactions apply for licenses, submit Encryption Review Requests, or submit notifications to BIS through, the Simplified Network Application Process—Redesign (SNAP-R), the System for Tracking Export License Applications (STELA), the Multipurpose application Form BIS 748P and its two appendices 748P-A and 748P-B, or by submitting an Advisory Opinion request pursuant to the instructions in § 748.3(c) of the EAR.

Affected Public: Businesses and other for-profit institutions.

Frequency: On occasion.

Respondent's Obligation: Mandatory.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
Departmental Lead PRA Officer, Office of the Chief Information Officer, Commerce Department.

[FR Doc. 2019-11456 Filed 5-31-19; 8:45 am]

BILLING CODE 3510-33-P